DEPARTMENT OF COMMERCE

[I.D. 112904B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: U.S.-Canada Albacore Treaty Reporting System.

Form Number(s): None.

OMB Approval Number: 0648-0492.

Type of Request: Regular submission.

Burden Hours: 928.

Number of Respondents: 700.

Average Hours Per Response: 5 minutes.

Needs and Uses: The 1981 Treaty Between the Government of the United States and the Government of Canada on Pacific Coast Albacore Tuna Vessels and Port Privileges (Treaty) provides for reciprocal privileges for vessels of one country to fish in waters under the fisheries jurisdiction of the other country and to use certain ports. H.R. 2584 was enacted in 2004 and amended the Magnuson-Stevens Fishery Conservation and Management Act (Magnuson-Stevens Act) to authorize the Secretary of Commerce, with the concurrence of the Secretary of State, to issue regulations needed to carry out U.S. obligations under the Treaty. On June 1, 2004, the National Marine Fisheries Service (NMFS) implemented such regulations, and the information collection involved was then given a short-term authorization from the Office of Management and Budget. The regulations require U.S. vessel operators to report their desire to be on the list of vessels provided to Canada each year indicating vessels that are eligible to fish for albacore in waters under the fisheries jurisdiction of Canada; report in advance their intention to fish or transit before crossing the border from the U.S. to Canada, or vice versa; maintain and submit to NMFS logbooks of catch and effort covering fishing in Canadian waters; and mark their fishing vessels to facilitate effective enforcement.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: November 23, 2004.
Gwellnar Banks,
Management Analyst, Office of the Chief Information Officer.

[FR Doc. 04-26574 Filed 12-1-04; 8:45 am]

BILLING CODE 3510-22-S